DEPARTMENT OF COMMERCE

International Trade Administration

[A-533-887, A-583-865, A-570-104]

Carbon and Alloy Steel Threaded Rod From India, Taiwan, and the People's Republic of China: Postponement of Preliminary Determinations in the Less-Than-Fair-Value Investigations

AGENCY: Enforcement and Compliance, International Trade Administration, Department of Commerce.

DATES: Applicable June 14, 2019.

FOR FURTHER INFORMATION CONTACT: Annathea Cook at (202) 482-0250 (India); Nicholas Czajkowski at (202) 482-1395 (Taiwan); Joshua Poole at (202) 482-1293 (the People's Republic of China (China)); AD/CVD Operations, Enforcement and Compliance, International Trade Administration, U.S. Department of Commerce, 1401 Constitution Avenue NW, Washington, DC 20230.

SUPPLEMENTARY INFORMATION:

Background

On March 13, 2019, the Department of Commerce (Commerce) initiated less-than-fair-value (LTFV) investigations of imports of carbon and alloy steel threaded rod from India, Taiwan, Thailand, and China.¹ The preliminary determinations are currently due no later than July 31, 2019.

¹ See Carbon and Alloy Steel Threaded Rod from India, Taiwan, Thailand, and the People's Republic of China: Initiation of Less-Than-Fair-Value Investigations, 84 FR 10034 (March 19, 2019).

Postponement of Preliminary Determinations

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating and determines that (i) the investigation is extraordinarily complicated, and that (ii) additional time is necessary to make a preliminary determination. Under 19 CFR 351.205(e), the petitioner must submit a request for postponement 25 days or more before the scheduled date of the preliminary determination and must state the reasons for the request. Commerce will grant the request unless it finds compelling reasons to deny the request.

On March 29, 2019, the petitioner ² submitted timely requests that Commerce postpone the preliminary determinations in these LTFV investigations.³ The petitioner stated that it requests postponement to allow Commerce time to issue and review questionnaire responses and to identify any deficiencies in those responses.⁴ On May 10, 2019, the petitioner withdrew its request to postpone the preliminary determination for the Thailand investigation.⁵ On May 15, 2019, the petitioner withdrew its request to postpone the preliminary determination for the Taiwan investigation.⁶ On May 23, 2019, the petitioner renewed its request postpone the preliminary determination for the Taiwan investigation.⁷ Thus, petitioner has submitted timely requests that Commerce postpone the preliminary determinations in the India, Taiwan, and China LTFV investigations.

² The petitioner is Vulcan Threaded Products Inc.

³ See Letters from the petitioner, “Carbon and Alloy Steel Threaded Rod from India: Request to Extend Preliminary Determination Deadline”, dated March 29, 2019, and “Carbon and Alloy Steel Threaded Rod from Taiwan: Request to Extend Preliminary Determination Deadline”, dated March 29, 2019, and “Carbon and Alloy Steel Threaded Rod from Thailand: Request to Extend Preliminary Determination Deadline”, dated March 29, 2019, and “Carbon and Alloy Steel Threaded Rod from China: Request to Extend Preliminary Determination Deadline”, dated March 29, 2019.

⁴ Id.

⁵ See Letter from the petitioner, “Carbon and Alloy Steel Threaded Rod from Thailand: Withdrawal of Request to Extend Preliminary Determination Deadline”, dated May 10, 2019.

⁶ See Letter from the petitioner, “Carbon and Alloy Steel Threaded Rod from Taiwan: Withdrawal of Request to Extend Preliminary Determination Deadline”, dated May 15, 2019.

⁷ See Letter from the petitioner, “Carbon and Alloy Steel Threaded Rod from Taiwan: Renewed Request to Extend Preliminary Determination Deadline”, dated May 23, 2019.

In accordance with 19 CFR 351.205(e), the petitioner has stated the reasons for requesting the postponement of the preliminary determinations, and Commerce finds no compelling reason to deny the requests. Therefore, Commerce is postponing the deadline for the preliminary determinations by 50 days, in accordance with section 733(c)(1)(A) of the Act. As a result, Commerce will issue its preliminary determinations no later than September 19, 2019. In accordance with section 735(a)(1) of the Act and 19 CFR 351.210(b)(1), the deadline for the final determinations of these investigations will continue to be 75 days after the date of the preliminary determinations, unless postponed at a later date.

This notice is issued and published in accordance with section 733(c)(2) of the Act and 19 CFR 351.205(f)(1).

Dated: June 10, 2019.
Jeffrey I. Kessler,
Assistant Secretary for Enforcement and Compliance.

[FR Doc. 2019-12604 Filed 6-13-19; 8:45 am]

BILLING CODE 3510-DS-P